DEPARTMENT OF THE TREASURY

Office of Foreign Assets Control

31 CFR Part 594

Publication of Global Terrorism Sanctions Regulations Web General License 28

AGENCY: Office of Foreign Assets Control, Treasury.

ACTION: Publication of web general license.

SUMMARY: The Department of the Treasury's Office of Foreign Assets Control (OFAC) is publishing one general license (GL) issued pursuant to the Global Terrorism Sanctions Regulations: GL 28, which was previously made available on OFAC's website.

DATES: GL 28 was issued on February 16, 2024.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On February 16, 2024, OFAC issued GL 28 to authorize certain transactions otherwise prohibited by the Global Terrorism Sanctions Regulations, 31 CFR part 594. GL 28 was made available on OFAC's website (https://ofac.treasury.gov) when it was issued. The text of this GL is provided below.

OFFICE OF FOREIGN ASSETS CONTROL

Global Terrorism Sanctions Regulations

31 CFR Part 594

GENERAL LICENSE NO. 28

Authorizing Transactions for Third-Country Diplomatic and Consular Missions Involving Ansarallah

(a) Except as provided in paragraph (b) of this general license, all transactions prohibited by the Global Terrorism Sanctions Regulations, 31 CFR part 594 (GTSR), involving Ansarallah, or any entity in which Ansarallah owns, directly or indirectly, a 50 percent or greater interest, that are ordinarily incident and necessary to the official business of third-country diplomatic or consular missions to Yemen are authorized.

(b) This general license does not authorize:

(1) Financial transfers to any blocked person described in paragraph (a) of this general license, other than for the purpose of effecting the payment of taxes, fees, or import duties, or the purchase or receipt of permits, licenses, or public utility services; or

(2) Any transactions otherwise prohibited by the GTSR, including transactions involving any person blocked pursuant to the GTSR other than the blocked persons described in paragraph (a) of this general license, unless separately authorized.

Bradley T. Smith,

Director, Office of Foreign Assets Control.

Dated: February 16, 2024.
Bradley T. Smith,
Director, Office of Foreign Assets Control.

[FR Doc. 2024-12332 Filed 6-7-24; 8:45 am]

BILLING CODE 4810-AL-P